ENVIRONMENTAL PROTECTION AGENCY

40 CFR Part 300

[EPA-HQ-SFUND-1987-0002; FRL-8753-3]

National Oil and Hazardous Substances Pollution Contingency Plan; National Priorities List

AGENCY: Environmental Protection Agency.

ACTION: Notice of Intent for Partial Deletion of portions of the Griffiss Air Force Base Superfund Site from the National Priorities List.

SUMMARY: The United States Environmental Protection Agency (EPA) Region 2 Office announces its intent to delete specific properties of the former Griffiss Air Force Base (GAFB) site located in Rome, New York, from the National Priorities List (NPL) and requests public comment on this proposed action. The NPL constitutes Appendix B to the National Oil and Hazardous Substances Pollution Contingency Plan (NCP), 40 CFR part 300, which EPA promulgated pursuant to Section 105 of the Comprehensive Environmental Response, Compensation, and Liability Act (CERCLA) as amended. The entire GAFB Site, approximately 3,552 acres, includes 32 areas of concern located on property currently or formerly owned by the United States Department of Defense. EPA and the State of New York, through the New York State Department of Environmental Conservation (NYSDEC), have determined that for the specified areas identified in this Notice of Intent for Partial Deletion (NOIPD), all appropriate response actions pursuant to CERCLA have been implemented and, aside from monitoring, operations, maintenance, and Five-Year Reviews, no further response actions, pursuant to CERCLA, are appropriate. Moreover, EPA and NYSDEC have determined that the specified properties at the GAFB Site (i.e., the soil and groundwater beneath) either pose no significant threat to public health or the environment or all appropriate response actions have been implemented, and therefore this NOIPD may proceed. The NOIPD is only for those properties specified herein and does not include other properties located at the GAFB Site.

DATES: Comments must be received by January 20, 2009.

ADDRESSES: Submit your comments, identified by Docket ID No. EPA-HQ-SFUND-1987-0002, by one of the following methods:

Web site: http://www.regulations.gov. Follow the on-line instructions for submitting comments.

E-mail: pocze.doug@epa.gov.

Fax: To the attention of Douglas M. Pocze at (212) 637-3256.

Mail: To the attention of Douglas M. Pocze, Remedial Project Manager, Emergency and Remedial Response Division, U.S. Environmental Protection Agency, Region 2, 290 Broadway, 18th Floor, New York, NY 10007-1866.

Hand Delivery: Superfund Records Center, 290 Broadway, 18th Floor, New York, NY 10007-1866 (telephone: 212-637-4308). Such deliveries are only accepted during the Docket's normal hours of operation (Monday to Friday from 9 a.m. to 5 p.m.). Special arrangements should be made for deliveries of boxed information.

Instructions: Direct your comments to Docket ID No. EPA-HQ-SFUND-1987-0002. EPA's policy is that all comments received will be included in the Docket without change and may be made available online at http://www.regulations.gov, including any personal information provided, unless the comment includes information claimed to be Confidential Business Information (CBI) or other information whose disclosure is restricted by statute. Do not submit information that you consider CBI or otherwise protected through http://www.regulations.gov or via e-mail. The http://www.regulations.gov Web site is an “anonymous access” system, which means EPA will not know your identity or contact information unless you provide it in the body of your comments. If you send comments to EPA via e-mail, your e-mail address will be included as part of the comment that is placed in the Docket and made available on the Web site. If you submit electronic comments, EPA recommends that you include your name and other contact information in the body of your comments and with any disks or CD-ROMs that you submit. If EPA cannot read your comments because of technical difficulties and cannot contact you for clarification, EPA may not be able to consider your comments. Electronic files should avoid the use of special characters and any form of encryption and should be free of any defects or viruses.

Docket: All documents in the Docket are listed in the http://www.regulations.gov index. Although listed in the index, some information is not publicly available, e.g., CBI or other information whose disclosure is restricted by statute. Certain other material, such as copyrighted material, will be publicly available only in hard copy. Publicly available Docket materials can be viewed electronically at http://www.regulations.gov or obtained in hard copy at: U.S. Environmental Protection Agency, Region 2, Superfund Records Center, 290 Broadway, 18th Floor, New York, NY 10007-1866, Phone: 212-637-4308, Hours: Monday to Friday from 9 a.m. to 5 p.m.; and Griffiss Business and Technology Park, Information Repository/Administrative File, 153 Brooks Road, Rome, NY 13441, (315) 356-0810.

Hours: Please call to determine hours of operation and whether an appointment is needed.

FOR FURTHER INFORMATION CONTACT: Mr. Douglas M. Pocze, Remedial Project Manager, by mail at Emergency and Remedial Response Division, U.S. Environmental Protection Agency, Region 2, 290 Broadway, 18th floor, New York, NY 10007-1866; Telephone (212) 637-4432, (or) fax at (212) 637-3256, (or) E-mail: pocze.doug@epa.gov.

SUPPLEMENTARY INFORMATION:

Table of Contents

I. Introduction

II. NPL Deletion Criteria

III. Deletion Procedures

IV. Basis for Intended Partial Site Deletion

I. Introduction

The EPA, Region 2, announces its intent to delete properties at the GAFB Site, located in Rome, NY, from the NPL, and requests comments on this action. This proposal for partial deletion pertains to soil and groundwater at specified areas of the GAFB. The parcel areas listed below either in their entirety or in portion are proposed for deletion and should be reviewed with the Partial Deletion map provided (See Figure 1).

| Acres
1. Property A1A—Airfield | 1324.45
2. Building 750—Former Air Force Special Investigations | 4.07
3. Central Heating Plant | 17.78
4. Parcel F1 | 61.40
5. Parcel F2 | 88.37
6. Electrical Power Substation | 3.20
7. Parcel F3A | 75.99
8. Parcel F3B | 14.04
9. Parcel F4A | 107.59
10. Parcel F4C | 56.96
11. Parcel F6A | 52.20
12. Parcel F7NR | 52.09
13. Parcel F7R | 223.75
14. Parcel F8 Housing | 69.22
15. Parcel F9A | 135.25
16. Parcel F9B | 64.99
17. Parcel F10A | 11.05
18. Parcel F10B | 275.82
19. Parcel F11A Housing | 152.56
20. Parcel F11C | 4.24
21. Parcel F11D | 45.23
22. Parcel F12A | 41.82
23. MGC—Mohawk Glen Club | 15.13

The NPL is set forth at Appendix B of 40 CFR part 300, which is an appendix to the National Oil and Hazardous Substances Pollution Contingency Plan (NCP), which EPA promulgated pursuant to section 105 of the Comprehensive Environmental Response, Compensation, and Liability Act (CERCLA) of 1980, as amended. EPA maintains the NPL as those sites that appear to present a significant risk to public health, welfare, or the environment. Sites on the NPL may be the subject of remedial actions financed by the Hazardous Substance Superfund (Fund). This partial deletion of certain properties at the GAFB is proposed in accordance with 40 CFR 300.425(e) and is consistent with the Notice of Policy Change: Partial Deletion of Sites Listed on the National Priorities List. 60 FR 55466 (Nov. 1, 1995). As described in § 300.425(e)(3) of the NCP, a portion of a site deleted from the NPL remains eligible for Fund-financed remedial action if future conditions warrant such actions.

The property proposed for deletion can also be reviewed via the Air Force's (AF's) Web site http://www.griffiss.com. Property coordinates for these parcels are identified in Figure 1 and are also defined in the corresponding transfer documents for each parcel. Transfer documents (e.g., deeds) and supporting documentation can be viewed either at the repositories or via the Web site.

To effectively manage the GAFB cleanup and property transfers, the base has been subdivided into management areas. These management areas or parcels were evaluated for various environmental concerns. The AF sets priorities for cleanup in each parcel based on the reuse priorities of the Local Reuse Authority (LRA). Environmental cleanup was expedited in some areas so that the property could be transferred from the AF to the LRA. The areas where cleanup was expedited and where the property was transferred are considered as candidates for deletion.

While reviewing the properties for deletion, EPA has based its recommendation for partial deletion upon the Records of Decision (RODs), Findings of Suitability to Transfer (FOST) and/or Findings of Suitability for Early Transfer (FOSET) and the Five-Year Review. In areas where the RODs were issued and the remedy was implemented (e.g., the institutional controls in the form of deed restrictions have been incorporated into a deed), EPA evaluated the area for consideration in this NOIPD.

As part of the NPL partial deletion process, EPA will accept public comments concerning this proposed NOID related to portions of the GAFB for thirty (30) days after publication of this notice in the Federal Register.

Section II further explains the criteria for deleting sites from the NPL. Section III discusses procedures that EPA is using for this action, and Section IV discusses the GAFB Site and demonstrates how it meets the partial deletion criteria. Properties and parcels that meet the criteria for demonstrating that the releases of hazardous substances pose no significant threat to human health or the environment, and therefore no remedial measures are needed, are indicated in Section IV as containing no CERCLA sites within its boundaries. Properties and parcels that meet the criteria that all appropriate response actions have been implemented are also indicated in Section IV as having some removal or remediation of contamination, and most include land and groundwater use restrictions in the property deed as required in the ROD.

II. NPL Deletion Criteria

The NCP establishes the criteria that EPA uses to delete sites from the NPL. In accordance with 40 CFR 300.425(e), sites may be deleted from the NPL where no further response is appropriate. In making this determination, EPA, in consultation with the State of New York, must establish whether any of the following criteria have been met:

i. Responsible parties or other persons have implemented all appropriate response actions required; or

ii. All appropriate Fund-financed responses under CERCLA have been implemented and no further cleanup by responsible parties is appropriate; or

iii. The remedial investigation has shown that the release of hazardous substances poses no significant threat to public health or the environment and, therefore, taking of remedial measures is not appropriate.

Pursuant to CERCLA section 121(c) and the NCP, EPA conducts Five-Year Reviews to ensure the continued protectiveness of remedial actions where hazardous substances, pollutants, or contaminants remain at a site above levels that allow for unlimited use and unrestricted exposure. EPA conducts such Five-Year Reviews even if a site is deleted from the NPL. EPA may initiate further action to ensure continued protectiveness at a deleted site if new information becomes available that indicates it is appropriate. Whenever there is a significant release from a site deleted from the NPL, the deleted site may be restored to the NPL without application of the hazard ranking system.

III. Deletion Procedures

The following procedures were used for the intended deletion of the specified properties at the GAFB Site:

(1) EPA has recommended the partial deletion and has prepared the relevant documents.

(2) EPA consulted with the State before developing this NOIPD.

(3) EPA has provided the State 30 working days for review of this notice prior to publication of it today.

(4) In accordance with the criteria discussed above, EPA has determined that no further response is appropriate.

(5) The State of New York through the NYSDEC concurs with this partial deletion.

(6) Concurrent with this national NOIPD, a notice has been published in a newspaper of record and has been distributed to appropriate federal, State, and local officials and other interested parties. These notices announce a thirty (30) day public comment period on the partial deletion package, which commences on the date of publication of this notice in the Federal Register and a newspaper of record.

(7) EPA has made all relevant documents available at the information repositories listed previously.

If comments are received within the 30-day comment period on this document, EPA will evaluate and respond accordingly to the comments before making a final decision to delete the parcels. If necessary, EPA will prepare a Responsiveness Summary to address any significant public comments received. After the public comment period, if EPA determines it is still appropriate to delete the soil and groundwater portions of the 23 parcels at the GAFB Superfund Site, the Regional Administrator will publish a final Notice of Partial Deletion in the Federal Register. Public notices, public submissions, and copies of the Responsiveness Summary, if prepared, will be made available to interested parties and included in the site information repositories listed above.

Deletion of a portion of a site from the NPL does not itself create, alter, or revoke any individual's rights or obligations. Deletion of a portion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Intended Site Deletion

A. Background

The GAFB NPL Site is comprised of 3,552 acres and is considered “fence-line” to “fence-line”. The mission of the former GAFB varied over the years. In 1942, the base was activated as the Rome Air Depot with the mission of storage, maintenance, and shipment of material for the U.S. Army Air Corps. Upon creation of the AF, the depot was renamed Griffiss Air Force Base in 1947, and, three years later, it became an electronics center with a mission of accomplishing applied research, development, and testing of electronic air-ground systems. Later, the 49th Air Squadron was added, and in June of 1958, the Ground Electronics Engineering Installations Agency was established to engineer and install ground communications equipment throughout the world. On July 1, 1970, the 416th Bombardment Wing of the Strategic Air Command (SAC) was activated with the mission of maintenance and implementation of both refueling operations and long-range bombardment capability. GAFB was designated for realignment under the Base Realignment and Closure Act in 1993 and 1995, resulting in deactivation of all AF flying missions. Today, federal agencies such as the Air Force Research Laboratory Information Directorate, the Northeast Air Defense Sector, and the Defense Finance and Accounting Services remain in operation at GAFB.

Since 1942 when construction of the base began, various hazardous and toxic substances were used and hazardous wastes were generated, stored, or disposed at GAFB. Numerous studies and investigations under the U.S. Department of Defense Installation Restoration Program (IRP) have been performed to locate, assess and quantify the past toxic and hazardous storage, disposal, and spill sites. These investigations include: records searches; interviews with base personnel; field inspections; compilation of waste inventory; evaluation of disposal practices; an assessment to determine the nature and extent of site contamination; Problem Confirmation and Quantification studies; soil and groundwater analysis; a base-wide health assessment; base specific hydrology investigations; and various site specific investigations. Based upon such studies and information, GAFB was included on the NPL on July 15, 1987 and on August 20, 1990, the AF entered into a Federal Facility Agreement (FFA) with EPA and NYSDEC under Section 120 of CERCLA. Under the terms of the FFA, the AF was required to submit various reports to NYSDEC and EPA for review and comment. These reports address response activities required under CERCLA and included: the identification of Areas of environmental Concern (AOCs); a scope of work for Remedial Investigation (RI); a work plan for the RI, including a sampling and analysis plan and a quality assurance plan; a baseline risk assessment; a community relations plan; and an RI report. On December 20, 1996, the AF submitted a draft-final RI report for regulatory review covering 31 AOCs located throughout the base.

Although a draft-final RI was submitted, environmental studies at GAFB did not stop there. Other studies such as the Areas of Interest study (AOI) evaluated over 300 possible environmental factors, many of which had not been formally evaluated under previous studies. The AOI study first collected all available information which was then reviewed by the AF, NYSDEC, and EPA. Based upon the review, sites were either recommended for no further action or for further sampling. Based upon the subsequent sampling, those sites either became no further action sites, were addressed with removal actions with confirmatory sampling, or were elevated to AOCs which then proceeded through the more comprehensive CERCLA cleanup process. The AF has completed its RI for the only AOI site that was elevated in this manner, AOC 9, and is currently reviewing possible alternatives for cleanup.

Some sites (e.g., the AOC Landfills) proceeded to presumptive remedies following the RI. Presumptive remedies are preferred technologies for common categories of sites based upon historical patterns of remedy selection and EPA's scientific and engineering evaluations of performance data on technology implementation. These sites were evaluated by the AF, NYSDEC, and EPA and, where determined to be appropriate presumptive remedy candidates based upon site sampling data and EPA's Presumptive Remedy Guidance for Military Landfills (dated April 29, 1996), and were proposed to the public. Following the public comment period where any comments specific to each landfill site were addressed, these remedies were approved and subsequently implemented. However, these presumptive remedy sites (i.e., the landfills) are not proposed for deletion at this time.

In addition to the AOCs, nine source removal sites as listed within the FFA have undergone cleanup with EPA and NYSDEC oversight. When the cleanup activities at these sites are completed, these sites will be closed with regulatory approval of a final remedy documented in a ROD.

Throughout this NOIPD, the term “CERCLA site” is used to mean the AOCs described generally above which have been investigated and, as necessary, addressed under the FFA.

B. Records of Decision, Remedial Actions and Five-Year Reviews

To date 26 remedies have been selected for various locations throughout the base. When accounting for all environmental factors which will necessitate some form of future regulatory approval, 13 of these sites still remain open. In managing the on-going activities, the AF has divided the base into various parcels. The periodic Five-Year Reviews which evaluate the protectiveness of each remedy as required by law also provides a summary of each parcel and its associated environmental activities. EPA and NYSDEC reviewed the most recent Five-Year Review document and provided their concurrence on September 15, 2005. Therefore, that document also was relied upon in the development of this NOIPD. Based upon that Five-Year Review document, the remedies as selected in the various RODs, and other documentation, this NOIPD was prepared with the understanding that only the parcel areas which meet the criteria of Section 300.425(e)(1) can be proposed for deletion, namely all appropriate response actions have been implemented or previous investigations have shown that remedial actions are not appropriate to protect human health or the environment. The parcels listed below meet this criteria and a summary of the parcel's environmental factors have been provided. Additional parcel information can be found on Figure 1 of this NOIPD and in the deeds via the Web site (http://www.griffiss.com).

Parcel A1A—The Airfield. This parcel was deeded to Oneida County via a Public Benefit Conveyance (PBC). It was comprised of 1,337.72 acres and contained two sites addressed under CERCLA. However, of the two sites located in the parcel, Six Mile Creek (approximately 13.27 acres) will remain on the NPL. Therefore, the area of the parcel that is proposed for deletion (approximately 1324.45 acres) contains just one CERCLA site within its boundaries. The following is a summary of the CERCLA site proposed for deletion:

Fire Demonstration Area. The Fire Demonstration Area is located north of Building 100. The site was used by the AF for fire demonstrations from 1987 to 1992. In 1994, an RI was initiated to characterize the full extent of contamination and determine potential threats to human health and the environment. Based upon sampling and analysis and a risk assessment, no further action in the form of land use restrictions was proposed by the AF as a remedy. After the public comment period, EPA with the concurrence of the NYSDEC approved a ROD on September 30, 1999, requiring institutional controls in the form of land use restrictions. The ROD required the site be restricted to industrial reuse, groundwater restrictions be implemented, and the AF to perform Five-Year reviews to ensure the remedy is protective of human health and the environment. The recorded deed contains the land and groundwater use restrictions required in the ROD.

Building 750—Former Air Force Special Investigations. This 4.07 acre parcel was deeded to the LRA via an Economic Development Conveyance (EDC) agreement. Prior to the property being deeded, a FOST was submitted by the AF and reviewed by EPA and NYSDEC. All comments were addressed. The parcel contains no CERCLA sites within its boundaries.

Central Heating Plant. This 17.78 acre parcel was deeded to the LRA via an EDC. Prior to the property being deeded, a FOST was submitted by the AF and reviewed by EPA and NYSDEC. All comments were addressed. A petroleum spill which is not regulated by CERCLA exists within the boundary (Spill #8903144); however, this area was remediated, and the AF is awaiting final closure approval from NYSDEC Spills Program. The parcel contains no CERCLA sites within its boundaries.

Parcel F1. This 64.90 acre parcel was deeded to the LRA via an EDC. However, because the property contained CERCLA sites undergoing cleanup, a Finding of Suitability for Early Transfer (FOSET) was required. A FOSET allows property to be transferred prior to cleanup with EPA and the Governor's approval, provided appropriate restrictions are in-place and the AF provides an assurance to complete cleanup the property. The transfer of this parcel received the Governor's concurrence on February 8, 1999, and was approved by EPA on April 2, 1999. As part of the assurances provided, the AF was required to address the CERCLA sites within the parcel. However, only those CERCLA sites which have remedies operating properly and successfully or which require no further action can be considered for deletion. The parcel contains four CERCLA sites within its boundaries (See Figure 1). Of the four sites located in the parcel, one site known as the Coal Yard Storage Area (approximately 3.50 acres) will remain on the NPL. Therefore, the area of the parcel that is proposed for deletion (approximately 61.40 acres) contains three CERCLA sites within the proposed partial NPL deletion area. The following is a summary of only the CERCLA sites in areas of Parcel F1 proposed for deletion:

Building 20. The Building 20 site, located in Parcel F1, was used as a locomotive roundhouse to service diesel locomotives. During operation, lubricants, diesel parts, and hydraulic fluids were stored, used, and at times spilled in the area. An initial soil investigation was performed in 1985, and soil was removed at the northwest corner of Building 20. However, during the investigation an oily liquid was encountered. Subsequent soil and groundwater investigations continued and additional soil and liquid contamination was removed. In 1994, an RI was initiated to characterize the full extent of contamination and determine potential threats to human health and the environment. In 1998, an interim remedial action was performed to remove contaminated soil beneath the floor near the northwest corner of the building. Based upon sampling and analysis, previous removal actions, and a risk assessment, the AF developed a plan for public comment proposing institutional controls. EPA with the concurrence of the NYSDEC approved a ROD on September 27, 2001, requiring institutional controls in the form of land use restrictions. The ROD required the site area be restricted to commercial/industrial reuse, groundwater restrictions be implemented and the AF to perform Five-Year Reviews to ensure the remedy is protective of human health and the environment. The recorded deed does contain the institutional controls/land and groundwater use restrictions required in the ROD.

T-9 Storage Area. The T-9 Storage Area (T-9), also located in Parcel F1, was reportedly an open lot used to store heavy equipment, herbicides, and petroleum based paving products. At one time, Building 9, which no longer exists, was used as a motor pool facility. In the mid 1980s, soil and groundwater studies were conducted which detected contaminants of concern above background and guidance values, and, as a result, in 1994, an RI was performed to evaluate the potential threats to human health and the environment. In 1998, an interim response action was performed at the T-9 Storage Area at three locations. These locations were identified based on soil contamination data from previous investigations including the RI. Based upon sampling and analysis, previous removal actions, and a risk assessment, no further action in the form of land use restrictions was proposed by the AF as a remedy. After the public comment period, EPA with the concurrence of the NYSDEC approved a ROD on September 27, 2001, requiring institutional controls in the form of land use restrictions. The ROD required that the site be restricted to commercial/industrial reuse, groundwater restrictions be implemented, and the AF to perform Five-Year Reviews to ensure the remedy is protective of human health and the environment. The recorded deed does contain the land and groundwater use restrictions required in the ROD.

Lot 69—Former Haz Waste Storage Yard. Lot 69 is located in the south central industrialized portion of the former Griffiss AFB base. The site contains a Vehicle Maintenance Facility, including Buildings 11 and 15, and an asphalt-covered vehicle parking and storage area. From 1965 to 1982, this site was used as an unrestricted interim drum storage area for containers of liquid and solid hazardous wastes generated on the base. In 1994, an RI was initiated to characterize the full extent of contamination and determine potential threats to human health and the environment. Based upon sampling and analysis and a risk assessment, the AF developed a plan for public comment proposing institutional controls. EPA with the concurrence of the NYSDEC approved a ROD on March 17, 2005, requiring institutional controls in the form of land use restrictions. The ROD required the site area be restricted to commercial/industrial reuse, groundwater restrictions be implemented, and the AF to perform Five-Year Reviews to ensure the remedy is protective of human health and the environment. The recorded deed does contain the institutional controls/land and groundwater use restrictions required in the ROD.

Parcel F2. This 93.11 acre parcel was deeded to the LRA via an EDC. However, because the property contained CERCLA sites undergoing cleanup, a FOSET was required. This early transfer received the Governor's concurrence on February 23, 2000, and was approved by EPA on May 10, 2000. As part of the assurances provided, the AF was required to address the CERCLA sites within the parcel. However, only those CERCLA sites which have implemented remedies operating properly and successfully or which require no further action can be considered for deletion. Subsequent to the transfer of the property, the AF completed all the required actions at one of the two sites located in parcel F2. The Building 775 site, comprised of 4.75 acres, is not proposed for deletion and will remain on the NPL. As a result, 88.37 acres of the Parcel F2's 93.11 acres are proposed for deletion, and it is within these 88.37 acres that the other CERCLA site which has been remediated is located. A summary of the CERCLA site is provided as follows:

Building 112. The Building 112 site, located in the central industrial area of the base, serves as the High Power Laboratory. The CERCLA site was comprised of four areas: A drywell; a rooftop transformer spill; the loading dock area; and the polychlorinated biphenyl (PCB) dump area. Beginning in the early 1980s, various studies were conducted in the Building 112 area. In 1994, soil sampling, groundwater sampling, and a risk assessment were performed as part of the RI investigation. In conjunction with the RI, the AF performed excavation of several areas containing elevated levels of PCBs. Based upon the RI and the removal of the PCB contaminated material, the AF developed a plan for public comment proposing no further action with land use restrictions. EPA, with the concurrence of the NYSDEC, approved the ROD on September 27, 2001, requiring institutional controls in the form of land use restrictions. The ROD required the site be restricted to commercial/industrial reuse, soil relocation restrictions, groundwater restrictions be implemented, and the AF to perform Five-Year Reviews to ensure the remedy is protective of human health and the environment. The recorded deed contains the land and groundwater use restrictions required in the ROD.

Parcel Electrical Power Substation. This parcel is comprised of 3.2 acres and contains one site addressed under CERCLA. The parcel was deeded to LRA via an EDC. Prior to the property being deeded, a FOST was submitted by the AF and reviewed by EPA and NYSDEC. All comments were addressed. A summary of the CERCLA site proposed for deletion is provided as follows:

Electric Power Substation (EPS). The EPS is located in the south-central portion of the base along the southern margin of the industrial complex. Since the start of operations at Griffiss AFB in the 1940s, the EPS has served as an electrical unit to relay power to various facilities throughout the base. Prior to conversion, some of the transformers contained polychlorinated biphenyl (PCB) dielectric fluids. Dielectric fluids have reportedly been drained from the transformers directly onto the ground surface over an extended period of time. A transformer rupture reportedly occurred in 1987 at Transformer No. 1, during which PCB fluids were released on the east side. In 1994, soil sampling, groundwater sampling, and a risk assessment were performed as part of an RI.

In conjunction with the RI, the AF performed excavation of several areas containing elevated levels of PCBs. In 1998, the AF conducted a removal action by excavating soil and disposing the PCB contaminated soil off-site. Based upon the RI and the removal actions, the AF developed a plan for public comment proposing no further action with land use restrictions. EPA with the concurrence of the NYSDEC, approved the ROD on March 17, 2005, requiring institutional controls in the form of land use restrictions. The ROD required the site be restricted to commercial/industrial reuse, soil relocation restrictions, groundwater restrictions be implemented, and the AF to perform Five-Year Reviews to ensure the remedy is protective of human health and the environment. The recorded deed contains the land and groundwater use restrictions required in the ROD.

Parcel F3A. This 87.90 acre parcel was deeded to the LRA via an EDC. Prior to the property being deeded, a FOST was submitted by the AF and reviewed by EPA and NYSDEC. All comments were addressed. Of the 87.90 acres, only 75.99 acres are proposed for deletion. Within these 75.99 acres, there are three CERCLA sites; however, the RODs for these sites were issued and the remedies implemented prior to the property being transferred. Therefore, the transfer was not considered an early transfer. Within the remaining 11.91 acres there are three sites known as Drywell 211, Washrack 222, and Building 255 Drywell which are individual area parcels and shall remain on the NPL (See Figure 1). A summary of the CERCLA sites is provided as follows:

Building 214. Building 214 is located in the west-central portion of the base. Adjacent to Building 214 are several other industrial buildings that form the area on base known as “Tin City.” Building 214 was a former vehicle maintenance shop, and solvents and petroleum were reported to have been released in a gravel-covered parking area adjacent to the building. In addition, an Underground Storage Tank (UST) was reported to have overflowed during past operations, and two drywells were reported to have existed at the southeast and southwest corners of the building. Beginning in the mid 1980s, various studies were conducted in this area, and thereafter soil sampling, groundwater sampling, and a risk assessment were performed as part of the RI in 1993. Based upon the RI, the AF developed a plan for public comment proposing no further action with land use restrictions. EPA, with the concurrence of the NYSDEC, approved the ROD on September 30, 1999, requiring institutional controls in the form of land use restrictions. The ROD required the site be restricted to commercial/industrial reuse, groundwater restrictions be implemented, and the AF to perform Five-Year Reviews to ensure the remedy is protective of human health and the environment. Following the approval of the ROD, groundwater monitoring continued, and based upon this monitoring EPA approved an Explanation of Significant Difference (ESD) on September 26, 2003, which found that the constituents sampled as part of a groundwater long-term monitoring program were below acceptable standards. The recorded deed contains land and groundwater use restrictions required in the ROD.

Building 219. The Building 219 site is located in the west-central portion of the base. This building and several other buildings form the Tin City area. The building was used as an Electric Power Production Shop, and based upon previous history a drywell existed south of the building. Liquid waste spills, neutralized battery acids, ethylene glycol, and shop wash-water may have been disposed in the drywell during the 1970s while the building was in operation. In 1994, an RI was performed to determine the nature and extent of contamination. Based upon the RI and a risk assessment, the AF developed a plan for public comment proposing no further action with land use restrictions. EPA, with the concurrence of the NYSDEC, approved the ROD on September 30, 1999, requiring institutional controls in the form of land use restrictions. The ROD required the site be restricted to commercial/industrial reuse, groundwater restrictions be implemented, and the AF to perform Five-Year Reviews to ensure the remedy is protective of human health and the environment. Following the approval of the ROD, groundwater monitoring continued, and based upon this monitoring EPA approved an ESD on September 26, 2003, which found that the constituents sampled as part of a groundwater long-term monitoring program did not exceed acceptable standards. The recorded deed contains land and groundwater use restrictions required in the ROD.

Building 222. The Building 222 site, located in the west-central portion of the base, is also part of the Tin City area. The building was used as a truck maintenance facility and entomology laboratory, and based upon previous history a battery acid disposal pit existed inside the building. The pit had an opening approximately 2 square feet in the floor and was covered with a steel grate. From 1940 until 1984, neutralized battery acids were discharged into the pit. In 1994, an RI was performed to determine the nature and extent of contamination. In 1998, and interim response action was performed to remove contaminated soil beneath the floor in the area of the battery acid disposal pit. Based upon the RI and the risk assessment, the AF developed a plan for public comment proposing no further action with land use restrictions. EPA, with the concurrence of the NYSDEC, approved the ROD on September 27, 2001, requiring institutional controls in the form of land use restrictions. The ROD required the site be restricted to commercial/industrial reuse, groundwater restrictions be implemented, and the AF to perform Five-Year Reviews to ensure the remedy is protective of human health and the environment. Following the approval of the ROD, groundwater monitoring continued, and based upon this monitoring EPA approved an ESD on September 26, 2003, which found that the constituents sampled as part of a groundwater long-term monitoring program did not exceed acceptable standards. The recorded deed contains land and groundwater use restrictions required in the ROD.

Parcel F3B. This 14.04 acre parcel was deeded to the LRA via an EDC. Prior to the property being deeded, a FOST was submitted by the AF and reviewed by EPA and NYSDEC. All comments were addressed. The parcel contains no CERCLA sites within its boundaries.

Parcel F4A. This 107.59 acre parcel was deeded to the LRA via an EDC. Prior to the property being deeded, a FOST was submitted by the AF and reviewed by EPA and NYSDEC. All comments were addressed. The parcel contains no CERCLA sites within its boundaries.

Parcel F4C. This 56.96 acre parcel was deeded to the LRA via an EDC. Prior to the property being deeded, a FOST was submitted by the AF and reviewed by EPA and NYSDEC. All comments were addressed. The parcel contains no CERCLA sites within its boundaries.

Parcel F6A. This 55.40 acre parcel was deeded to the LRA via an EDC. Prior to the property being deeded, a FOST was submitted by the AF and reviewed by EPA and NYSDEC. All comments were addressed. Of the 55.40 acres only 52.20 acres are proposed for deletion. There are no CERCLA sites within these acres. The one remaining site known as Building 301 Drywell is an individual area and will remain on the NPL (See Figure 1).

Parcel F7NR. This 52.09 acre parcel was deeded to the LRA via an EDC. Prior to the property being deeded, a FOST was submitted by the AF and reviewed by EPA and NYSDEC. All comments were addressed. The parcel contains no CERCLA sites within its boundaries.

Parcel F7R. This 223.75 acre parcel was deeded to Oneida County via a deed reversion clause. Prior to the property being deeded, a FOST was submitted by the AF and reviewed by EPA and NYSDEC. All comments were addressed. The parcel contains no CERCLA sites within its boundaries.

Parcel F8—Housing. This 69.22 acre parcel was offered to the LRA, but it decided not to take ownership of the property. The FOST, however, was submitted and reviewed by EPA and NYSDEC. All comments were addressed and the property was disposed by Government Services Agency via a public auction. The parcel contains no CERCLA sites within its boundaries.

Parcel F9A. This 135.25 acre parcel was deeded to the LRA via an EDC. Prior to the property being deeded, a FOST was submitted by the AF and reviewed by EPA and NYSDEC. All comments were addressed. The parcel contains no CERCLA sites within its boundaries.

Parcel F9B. This 64.99 acre parcel was deeded to the LRA via an EDC. Prior to the property being deeded, a FOST was submitted by the AF and reviewed by EPA and NYSDEC. All comments were addressed. The parcel contains no CERCLA sites within its boundaries.

Parcel F10A. This 11.05 acre parcel was deeded to the LRA via an EDC. Prior to the property being deeded, a FOST was submitted by the AF and reviewed by EPA and NYSDEC. All comments were addressed. The parcel contains no CERCLA sites within its boundaries.

Parcel 10B. This 281.44 acre parcel was deeded to the LRA via an EDC, and of these acres, 275.82 acres are proposed for deletion. Prior to the property being deeded, a FOST was submitted by the AF and reviewed by EPA and NYSDEC. All comments were addressed. Four CERCLA sites are located within the parcel. Three of these sites known as Drywell 842, Drywell 846, and AOC 9 are individual areas and will remain on the NPL. Therefore, the parcel contains just one CERCLA site within its boundaries that is proposed for deletion (See Figure 1). A summary of the CERCLA site is provided as follows:

Suspected Fire Training Area. The Suspected Fire Training Area was located on the eastern boundary of the base. It was investigated as part of an RI in 1994. Based upon the RI, a ROD was proposed to the public for No Further Action. After the public comment period, EPA with the concurrence of the NYSDEC, approved the ROD on September 30, 1999. No reuse restrictions are required for the area.

Parcel F11A Housing. This 152.56 acre parcel was deeded to the LRA via an EDC. Prior to the property being deeded, a FOST was submitted by the AF and reviewed by EPA and NYSDEC. All comments were addressed. The parcel contains no CERCLA sites within its boundaries.

Parcel F11C. This 4.24 acre parcel was deeded to the LRA via an EDC. Prior to the property being deeded, a FOST was submitted by the AF and reviewed by EPA and NYSDEC. All comments were addressed. The parcel contains no CERCLA sites within its boundaries.

Parcel F11D. This 45.23 acre parcel was deeded to the LRA via an EDC. Prior to the property being deeded, a FOST was submitted by the AF and reviewed by EPA and NYSDEC. All comments were addressed. The parcel contains no CERCLA sites within its boundaries.

Parcel F12A. This 45.83 acre parcel was deeded to the LRA via an EDC. Prior to the property being deeded, a FOST was submitted by the AF and reviewed by EPA and NYSDEC. All comments were addressed. A small portion of parcel F12A (4.01 acres) contains groundwater contamination. This area of contamination is currently being addressed and will not be deleted from the NPL. Therefore, 41.82 acres of the parcel which are proposed for deletion contain no CERCLA sites within its boundaries (See Figure 1).

MGC—Mohawk Glen Club. This 15.13 acre parcel which was originally the Officer's Club was deeded to Oneida County via a deed reversion clause. Prior to the property being deeded, a FOST was submitted by the AF and reviewed by EPA and NYSDEC. All comments were addressed. The parcel contains no CERCLA sites within its boundaries.

C. Community Involvement

The AF published its first Community Relations Plan in May 1991 and created a Restoration Advisory Board (RAB) to facilitate participation of and input from the public throughout the CERCLA cleanup process. The RAB acts as a focal point for the exchange of information between the AF and the local community, and it enables the early communication of information, concerns, and needs between them. In addition, each decision document at the Site has been made available for public comment, discussed at public meetings, and placed in the information repository before the decision document is finalized.

D. Deletion Action Determination

EPA, with the concurrence of the State of New York dated August 7, 2008, has determined that all appropriate responses under CERCLA have been completed and that no further response actions under CERCLA, other than O&M and Five-Year Reviews, are necessary or that an investigation has shown a release poses no significant threat to public health or the environment and, therefore, no response action is appropriate. Therefore, EPA is deleting the properties and parcels described above from the NPL. While EPA does not believe that any future response actions in the areas identified above will be needed, if future conditions warrant such action, the proposed deletion area of GAFB remains eligible for future response actions. Furthermore, this partial deletion does not alter the status of the remaining areas of GAFB which are not proposed for deletion and remain on the NPL. Likewise, this deletion does not alter the status of any other cleanup activities occurring under other federal and state programs (e.g., many of the parcels proposed for deletion include cleanup under New York State authorities such as the New York State Spills Program which addresses releases of petroleum products to the environment).

List of Subjects in 40 CFR Part 300

Environmental protection, Air pollution control, Chemicals, Hazardous waste, Hazardous substances, Intergovernmental relations, Natural resources, Oil pollution, Penalties, Reporting and recordkeeping requirements, Superfund, Water pollution control, Water supply.

Authority: 33 U.S.C. 1321(c)(2); 42 U.S.C. 9601-9657; E.O. 12777, 56 FR 54757, 3 CFR 1991 Comp., p. 351; and E.O.12580, 52 FR 2923, 3 CFR 1987 Comp., p. 193.

Dated: November 28, 2008.
Alan J. Steinberg,
Regional Administrator—Region 2.

BILLING CODE 6560-50-P

[FR Doc. E8-29961 Filed 12-18-08; 8:45 am]

BILLING CODE 6560-50-C